DEPARTMENT OF THE INTERIOR

Bureau of Ocean Energy Management

[Docket No. BOEM-2021-0003]

Notice of Availability of the Area Identification for the Proposed Cook Inlet Oil and Gas Lease Sale 258

AGENCY: Bureau of Ocean Energy Management, Interior.

ACTION: Area identification.

SUMMARY: The Bureau of Ocean Energy Management (BOEM) announces the availability of the Area Identification (Area ID) for the proposed Cook Inlet Oil and Gas Lease Sale 258 (Cook Inlet Lease Sale 258) in the available northern portions of the Cook Inlet Planning Area.

FOR FURTHER INFORMATION CONTACT: Patricia LaFramboise, Supervisor of Leasing and Plans, Alaska Regional Office, 907-334-5271, patricia.laframboise@boem.gov or Wright Jay Frank, Chief, Leasing Policy and Management Division, 703-787-1325, wright.frank@boem.gov.

SUPPLEMENTARY INFORMATION: On January 17, 2017, the Secretary of the Interior approved the 2017-2022 National Outer Continental Shelf (OCS) Oil and Gas Leasing Program (2017-2022 National OCS Program), which included Cook Inlet Lease Sale 258 scheduled in 2021. Details of the 2017-2022 National OCS Program can be found at https://www.boem.gov/National-OCS-Program/. In accordance with 30 CFR 556.301, BOEM published a Call for Information and Nominations (Call) ¹ on the area identified in the 2017-2022 National OCS Program for the proposed Cook Inlet Lease Sale 258. The Call solicited industry nominations for areas of leasing interest and sought comments and information from the public on the areas being considered. BOEM analyzed the comments received in response to the Call and identified the areas that warranted further leasing consideration and analyses of the proposed sale's potential leasing effects on the human, marine, and coastal environments. This Area ID is not a decision to lease and is not a prejudgment by the Department of the Interior to proceed with proposed Cook Inlet Lease Sale 258. A decision to lease must be preceded by a number of steps, including, but not limited to, completion of environmental analyses, opportunities for the State of Alaska and other interested parties to comment, and issuance of Proposed and Final Notices of Sale.

¹ 85 FR 55859, September 10, 2020.

The Area ID is available for viewing and downloading on BOEM's website at http://www.boem.gov/ak258. It also may be obtained from the Alaska Regional Office, Bureau of Ocean Energy Management, 3801 Centerpoint Drive, Suite 500, Anchorage, Alaska 99503-5820; telephone: 907-334-5200.

Authority: This Area ID is published pursuant to the Outer Continental Shelf Lands Act, as amended (43 U.S.C. 1331-1356), and the implementing regulation at 30 CFR 556.302.

Walter D. Cruickshank,
Acting Director, Bureau of Ocean Energy Management.

[FR Doc. 2021-00777 Filed 1-14-21; 8:45 am]

BILLING CODE 4310-MR-P